DEPARTMENT OF COMMERCE

International Trade Administration

[C-570-140]

Mobile Access Equipment and Subassemblies Thereof From the People's Republic of China: Amended Final Results of Countervailing Duty Administrative Review; 2022

AGENCY: Enforcement and Compliance, International Trade Administration, Department of Commerce.

SUMMARY: The U.S. Department of Commerce (Commerce) is amending the final results of the administrative review of the countervailing duty order on mobile access equipment and subassemblies thereof (MAE) from the People's Republic of China (China). This notice amends the cash deposit rate for Zhejiang Dingli Machinery Co., Ltd. (Dingli). The period of review (POR) is January 1, 2022, through December 31, 2022.

DATES: Applicable January 26, 2026.

FOR FURTHER INFORMATION CONTACT: Paul Senoyuit, AD/CVD Operations, Office II, Enforcement and Compliance, International Trade Administration, U.S. Department of Commerce, 1401 Constitution Avenue NW, Washington, DC 20230; telephone: (202) 482-6106.

SUPPLEMENTARY INFORMATION:

Background

On December 19, 2025, Commerce published in the Federal Register the Final Results of the 2022 administrative review ¹ of the countervailing duty order on MAE from China.² On December 29, 2025, we received a timely ministerial error allegation from the Coalition of American Manufacturers of Mobile Access Equipment (the petitioners).³ No other interested party submitted comments. Commerce is amending the Final Results to correct one ministerial error.

¹ See Mobile Access Equipment and Subassemblies Thereof from the People's Republic of China: Final Results of Countervailing Duty Administrative Review; 2022, 90 FR 59492 (December 19, 2025) (Final Results), and accompanying Issues and Decision Memorandum (IDM).

² See Certain Mobile Access Equipment and Subassemblies Thereof from the People's Republic of China: Countervailing Duty Order and Amended Final Affirmative Countervailing Duty Determination, 86 FR 70439 (December 10, 2021) (Order).

³ See Petitioners' Letter, “Ministerial Error Comments,” dated December 29, 2025 (Petitioners' Ministerial Error Comments).

Legal Framework

Section 751(h) of the Tariff Act of 1930, as amended (the Act), defines a “ministerial error” as including “errors in addition, subtraction, or other arithmetic function, clerical errors resulting from inaccurate copying, duplication, or the like, and any other unintentional error which the administering authority considers ministerial.” ⁴ With respect to final results of administrative reviews, 19 CFR 351.224(e) provides that Commerce “will analyze any comments received and, if appropriate, correct any . . . ministerial error by amending the final results of review . . . {.}”

⁴ See 19 CFR 351.224(f).

Ministerial Error

Commerce reviewed the record and finds that errors alleged by the petitioner constitute a ministerial error within the meaning of section 751(h) of the Act and 19 CFR 351.224(f).⁵ Specifically, we find that the benchmark error present in Dingli's final margin calculation, which calculated inland freight on a per-kilogram per-kilometer basis instead of a per-kilogram basis, was an inadvertent error which we consider ministerial. Pursuant to 19 CFR 351.224(e), Commerce is amending the Final Results to reflect the correction of this ministerial error. The revised new subsidy rate is provided below.

⁵ See Memorandum, “Analysis of Ministerial Error Allegations,” dated concurrently with this notice (Ministerial Error Memorandum).

For a complete discussion of the ministerial error allegation, as well as Commerce's analysis, see the Ministerial Error Memorandum. The Ministerial Error Memorandum is on file electronically via ACCESS. ACCESS is available to registered users at https://access.trade.gov.

Amended Final Results of Review

As a result of correcting the ministerial error, we determine that the following countervailable subsidy rate for Dingli exists for the period of January 1, 2022, through December 31, 2022:

Company | Subsidy rate (percent ad valorem)
Zhejiang Dingli Machinery Co. Ltd.; Zhejiang Green Power Machinery Co., Ltd.; Zhejiang Shengda Fenghe Automotive Equipment Co., Ltd.; Zhejiang Xieheng Intelligent Equipment Co., Ltd.⁶ | 33.10

Disclosure

⁶ As discussed in the Preliminary Decision Memorandum, and unchanged in the Issues and Decision Memorandum and the Ministerial Error Memorandum, Commerce has found the following companies to be cross-owned with Dingli: Zhejiang Green Power Machinery Co., Ltd.; Zhejiang Shengda Fenghe Automotive Equipment Co., Ltd.; and Zhejiang Xieheng Intelligent Equipment Co., Ltd.

Commerce intends to disclose its calculations and analysis performed for the amended final results of review within five days after the date of publication of this notice in the Federal Register, in accordance with 19 CFR 351.224(b).

Assessment Rates

Pursuant to section 751(a)(2)(C) of the Act and 19 CFR 351.212(b)(2), Commerce has determined, and U.S. Customs and Border Protection (CBP) shall assess, countervailing duties on all appropriate entries of subject merchandise in accordance with the amended final results of this review, for the above-listed company at the applicable ad valorem assessment rate. We intend to issue assessment instructions to CBP no earlier than 35 days after the date of publication of these amended final results of review in the Federal Register. If a timely summons is filed at the U.S. Court of International Trade, the assessment instructions will direct CBP not to liquidate relevant entries until the time for parties to file a request for a statutory injunction has expired (i.e., within 90 days of publication).

Cash Deposit Requirements

For Dingli, Commerce is amending the cash deposit rate, countervailing duties shall be assessed at a rate equal to the cash deposit of estimated countervailing duties required at the time of entry, or withdrawal from warehouse, for consumption on or after the date of publication of the Final Results of this administrative review.⁷ The cash deposit requirements, when imposed, shall remain in effect until further notice.

⁷ See Final Results IDM.

Administrative Protective Order (APO)

This notice also serves as a reminder to parties subject to APO of their responsibility concerning the return or destruction of proprietary information disclosed under APO in accordance with 19 CFR 351.305(a)(3). Timely written notification of the return/destruction of APO materials or conversion to judicial protective order is hereby requested. Failure to comply with the regulations and terms of an APO is a violation which is subject to sanction.

Notification to Interested Parties

We are issuing and publishing these amended final results of administrative review in accordance with sections 751(a)(1) and 777(i)(1) of the Act, and 19 CFR 351.224(e).

Dated: January 21, 2026.
Christopher Abbott,
Deputy Assistant Secretary for Policy and Negotiations, performing the non-exclusive functions and duties of the Assistant Secretary for Enforcement and Compliance.

[FR Doc. 2026-01451 Filed 1-23-26; 8:45 am]

BILLING CODE 3510-DS-P